DEPARTMENT OF ENERGY

Federal Energy Regulatory Commission

Combined Notice of Filings #1

March 10, 2006.

Take notice that the Commission received the following electric rate filings.

Docket Numbers: ER01-1418-004; ER02-1238-005; ER01-2928-007; ER01-1419-004; ER01-1310-005; ER03-398-005.

Applicants: Effingham County Power, LLC; MPC Generating, LLC; Progress Ventures, Inc.; Rowan County Power, LLC; Walton County Power, LLC; Washington County Power, LLC.

Description: Effingham County Power LLC, MPC Generating LLC, Progress Ventures Inc. et al., submit an updated triennial market power analysis.

Filed Date: February 28, 2006.

Accession Number: 20060309-0034.

Comment Date: 5 p.m. Eastern Time on Tuesday, March 21, 2006.

Docket Numbers: ER03-327-001.

Applicants: PSEG Power Connecticut LLC.

Description: PSEG Power Connecticut, LLC submits its triennial update market power report and March 2, 2006 Statement of Issues.

Filed Date: February 28, 2006.

Accession Number: 20060308-0125.

Comment Date: 5 p.m. Eastern Time on Tuesday, March 21, 2006.

Docket Numbers: ER04-459-005.

Applicants: Southern Company, Services, Inc.

Description: Southern Company Services, Inc, agent for Alabama Power Co. et al., submits a revision to Original Sheet 141C.001 and 141C.002 of Southern Companies' OATT.

Filed Date: March 2, 2006.

Accession Number: 20060308-0022.

Comment Date: 5 p.m. Eastern Time on Thursday, March 23, 2006.

Docket Numbers: ER05-1221-005.

Applicants: Commonwealth Edison Company.

Description: Commonwealth Edison Co. submits amendments to the Transmission Interconnection Agreement with Ameren Services Co. as agent for AmerenCILCO et al.,

Filed Date: March 6, 2006.

Accession Number: 20060309-0016.

Comment Date: 5 p.m. Eastern Time on Monday, March 27, 2006.

Docket Numbers: ER05-1507-001.

Applicants: New York Independent System Operator, Inc.

Description: New York Independent System Operator, Inc. submits its compliance filing to revised Section 8.4 of its Market Administration and Control Area Services Tariff.

Filed Date: March 6, 2006.

Accession Number: 20060309-0019.

Comment Date: 5 p.m. Eastern Time on Monday, March 27, 2006.

Docket Numbers: ER06-329-001.

Applicants: Cadillac Renewable Energy, LLC.

Description: Cadillac Renewable Energy, LLC amends First Revised Sheet 2 under Ancillary Services of its tariff and First Revised Sheet 3 etc.

Filed Date: February 9, 2006.

Accession Number: 20060213-0011.

Comment Date: 5 p.m. Eastern Time on Thursday, March 2, 2006.

Docket Numbers: ER06-354-003; EL06-44-003.

Applicants: California Independent System Operator Corporation.

Description: The California Independent System Operator Inc. Corp submits its compliance filing to FERC's February 13, 2006 and February 23, 2006 Orders.

Filed Date: March 6, 2006.

Accession Number: 20060309-0021.

Comment Date: 5 p.m. Eastern Time on Monday, March 27, 2006.

Docket Numbers: ER06-684-000.

Applicants: Allegheny Energy Supply Company, L.L.C.

Description: UGI Utilities, Inc. et al. submits an executed Interconnection Agreement with Allegheny Energy Supply Co, LLC.

Filed Date: February 28, 2006.

Accession Number: 20060302-0058.

Comment Date: 5 p.m. Eastern Time on Tuesday, March 21, 2006.

Docket Numbers: ER06-685-000.

Applicants: UGI Development Company.

Description: UGI Utilities, Inc. submits an executed Interconnection Agreement with UGI Development Co.

Filed Date: February 28, 2006.

Accession Number: 20060302-0056.

Comment Date: 5 p.m. Eastern Time.

Docket Numbers: ER06-699-000.

Applicants: Coral Energy Management, LLC.

Description: Coral Energy Management, LLC submits its First Revised Rate Schedule FERC No. 1.

Filed Date: March 6, 2006.

Accession Number: 20060309-0033.

Comment Date: 5 p.m. Eastern Time on Monday, March 27, 2006.

Docket Numbers: ER06-703-000.

Applicants: Pedricktown Cogeneration Company, LP.

Description: Pederictown Cogeneration Co, LP submits market-based rate schedule for filing and granting waivers and blanket approvals.

Filed Date: March 6, 2006.

Accession Number: 20060309-0027.

Comment Date: 5 p.m. Eastern Time on Monday, March 27, 2006.

Docket Numbers: ER06-704-000.

Applicants: Sprague Energy Corporation.

Description: Sprague Energy Corp. submits a First Revised Sheet No. 1 to the tariff, a Notice of Cancellation, and a Notice of filing requesting that the FERC terminate Sprague Energy's market-based rate tariff.

Filed Date: March 6, 2006.

Accession Number: 20060309-0028.

Comment Date: 5 p.m. Eastern Time on Monday, March 27, 2006.

Docket Numbers: ER06-705-000.

Applicants: Coral Power, L.L.C.

Description: Coral Power, LLC submits for acceptance a Revised Market-Based Rate Schedule FERC No. 1.

Filed Date: March 6, 2006.

Accession Number: 20060309-0029.

Comment Date: 5 p.m. Eastern Time on Monday, March 27, 2006.

Docket Numbers: ER99-1293-006.

Applicants: Monmouth Energy, Inc.

Description: Monmouth Energy Inc. submits its updated Market Power Analysis.

Filed Date: March 3, 2006.

Accession Number: 20060309-0045.

Comment Date: 5 p.m. Eastern Time on Friday, March 24, 2006.

Docket Numbers: ER99-2774-013.

Applicants: Duke Energy Trading and Marketing, L.L.C.

Description: Duke Energy Trading and Marketing LLC submits revisions to its market-based rate tariff, FERC Electric Tariff, Original Volume No. 1.

Filed Date: March 6, 2006.

Accession Number: 20060309-0020.

Comment Date: 5 p.m. Eastern Time on Monday, March 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-3891 Filed 3-16-06; 8:45 am]

BILLING CODE 6717-01-P